DEPARTMENT OF ENERGY

Federal Energy Regulatory Commission

Sunshine Act Meetings

The following notice of meeting is published pursuant to section 3(a) of the government in the Sunshine Act (Pub. L. 94-409), 5 U.S.C. 552b:

Agency Holding Meeting: Federal Energy Regulatory Commission.

TIME AND DATE: April 18, 2019 10:00 a.m.

PLACE: Room 2C, 888 First Street NE, Washington, DC 20426.

STATUS: Open.

MATTERS TO BE CONSIDERED: Agenda.

* NOTE —Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link, or may be examined in the Commission's Public Reference Room.

1054th—Meeting
[Open meeting; April 18, 2019; 10:00 a.m.]
Item No. | Docket No. | Company
ADMINISTRATIVE
A-1 | AD19-1-000 | Agency Administrative Matters.
A-2 | AD19-2-000 | Customer Matters, Reliability, Security and Market Operations.
A-3 | AD19-11-000 | State of the Markets 2018 Report.
ELECTRIC
E-1 | EL19-11-000 | American Wind Energy Association and The Wind Coalition v. Southwest Power Pool, Inc.
E-2 | EL18-33-000 | New York Independent System Operator, Inc.
E-3 | EL18-34-000 | PJM Interconnection, L.L.C.
E-4 | Omitted |
E-5 | RM18-20-000 | Critical Infrastructure Protection Reliability Standard CIP-012-1—Cyber Security—Communications between Control Centers.
E-6 | ER17-1357-002 | Duke Energy Carolinas, LLC and Duke Energy Progress, LLC.
E-7 | ER17-1568-002, ER17-1568-003, ER18-1854-001, ER18-2030-001, ER18-2058-001, ER19-261-001 | Southwest Power Pool, Inc.
E-8 | ER19-1112-000 | Flat Ridge 2 Wind Energy LLC Fowler Ridge II Wind Farm LLC Southwestern Electric Power Company Indiana Michigan Power Company Ohio Power Company.
E-9 | ES19-15-000 | El Paso Electric Company.
E-10 | ES19-14-000 | South Carolina Electric & Gas Company South Carolina Generating Company, Inc.
E-11 | EL19-42-000 | City Utilities of Springfield, Missouri.
E-12 | EL18-205-000 | Sunrun, Inc.
GAS
G-1 | RM18-11-001, RP18-415-001 | Interstate and Intrastate Natural Gas Pipelines; Rate Changes Relating to Federal Income Tax Rate American Forest & Paper Association.
G-2 | RP15-23-000 | Transwestern Pipeline Company, LLC.
G-3 | RP19-810-000 | Tallgrass Interstate Gas Transmission, LLC.
| RP19-811-000 | Trailblazer Pipeline Company LLC.
| RP19-812-000 | Rockies Express Pipeline LLC.
G-4 | IS18-228-002 | Buckeye Pipe Line Company, L.P.
G-5 | RP18-1038-003 | Northern Border Pipeline Company.
G-6 | OR18-15-001 | Andeavor Field Services, LLC v. Mid-America Pipeline Company, LLC and Enterprise Products Operating LLC.
HYDRO
H-1 | RM19-6-000 | Hydroelectric Licensing Regulations Under the America's Water Infrastructure Act of 2018.
H-2 | P-2897-048, P-2932-047, P-2941-043, P-2931-042, P-2942-051 | Sappi North America, Inc.
H-3 | P-14655-001 | Cat Creek Energy, LLC.
H-4 | P-2107-021 | Pacific Gas and Electric Company.
H-5 | P-6461-027 | City of Port Angeles, Washington.
H-6 | P-2079-080 | Placer County Water Agency.
CERTIFICATES
C-1 | CP17-219-001 | Southern Star Central Gas Pipeline, Inc.
C-2 | CP17-117-000 | Driftwood LNG LLC.
| CP17-118-000 | Driftwood Pipeline LLC.
C-3 | CP17-20-000 | Port Arthur LNG, LLC and PALNG Common Facilities Company, LLC.
| CP17-21-000, CP17-21-001, CP18-7-000 | Port Authur Pipeline, LLC.
C-4 | Omitted |

Issued: April 11, 2019.
Kimberly D. Bose,
Secretary.

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Shirley Al-Jarani at 703-993-3104.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2019-07742 Filed 4-15-19; 11:15 am]

BILLING CODE 6717-01-P